DEPARTMENT OF LABOR

Employment and Training Administration

Agency Information Collection Activities; Comment Request; Workforce Information Grants to States

ACTION: Notice.

SUMMARY: The Department of Labor's (DOL) Employment and Training Administration (ETA) is soliciting comments concerning a proposed revision for the authority to conduct the information collection request (ICR) titled, “Workforce Information Grants to States (WIGS).” This comment request is part of continuing Departmental efforts to reduce paperwork and respondent burden in accordance with the Paperwork Reduction Act of 1995 (PRA).

DATES: Consideration will be given to all written comments received by April 6, 2026.

ADDRESSES: A copy of this ICR with applicable supporting documentation, including a description of the likely respondents, proposed frequency of response, and estimated total burden, may be obtained free by contacting Donald Haughton by email at haughton.donald.w@dol.gov.

Submit written comments about, or requests for a copy of, this ICR by mail or courier to the U.S. Department of Labor, Employment and Training Administration, Workforce Information Grants to States, 200 Constitution Ave NW, Suite C-4510, Washington DC 20010; or by email to haughton.donald.w@dol.gov.

FOR FURTHER INFORMATION CONTACT: Donald Haughton by email at haughton.donald.w@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This ICR is necessary to comply with the reporting requirements of the Workforce Innovation and Opportunity Act (WIOA) Section 308 (29 U.S.C. 491-2), and 20 Code of Federal Regulations (CFR) Parts 651 and 652. P.L. 113-128 sections 101 and 308 authorizes this information collection. The data and workforce information services provided through WIGS support the development of data-driven policy, inform training and employment program design and investment decision-making, support consultations with strategic partners, and leverage limited labor market information-workforce information (LMI-WI) program grant resources. State workforce agencies use WIGS to develop and disseminate essential state and local LMI-WI for job seekers, employers, educators, economic developers, and others. The WIGS requires each state to deliver a 508-compliant Annual Performance Report to ETA. The collection of this report by ETA requires OMB approval through the PRA.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control number 1205-0417.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Workforce Information Grant to States (WIGS).

Form: States are required to submit the WIGS Plan and Annual Performance Report.

OMB Control Number: 1205-0417.

Affected Public: State Workforce Agencies.

Estimated Number of Respondents: 54.

Frequency: Annually.

Total Estimated Annual Responses: 54.

Estimated Average Time per Response: 80 hours.

Estimated Total Annual Burden Hours: 4,320 hours.

Total Estimated Annual Other Cost Burden: $0.00.

Authority: 44 U.S.C. 3506(c)(2)(A).

Henry Maklakiewicz,
Assistant Secretary for Employment and Training, Labor.

[FR Doc. 2026-02143 Filed 2-2-26; 8:45 am]

BILLING CODE 4510-FN-P